DEPARTMENT OF THE INTERIOR

Bureau of Land Management

[WO-320-1310-DS-OSHL]

Notice of Availability of Draft Oil Shale and Tar Sands Resource Management Plan Amendments To Address Land Use Allocations in Colorado, Utah, and Wyoming and Programmatic Environmental Impact Statement

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared the Draft Oil Shale and Tar Sands Resource Management Plan Amendments To Address Land Use Allocations in Colorado, Utah, and Wyoming and Programmatic Environmental Impact Statement (PEIS). By this notice, the BLM is announcing the opening of a 90-day public review and comment period for the PEIS. The planning area lies within the Green River Formation in Colorado, Utah, and Wyoming.

DATES: Please submit written comments on the PEIS within 90 days following the date the Environmental Protection Agency publishes their Notice of Availability in the Federal Register. The BLM will announce future meetings and/or hearings and any other public participation activities at least 15 days in advance on the internet and through public notices, media news releases, and/or mailings.

ADDRESSES: Copies of the PEIS will be sent to affected Federal, state, and local government agencies and other interested parties. Copies of the PEIS are available for public inspection via the internet at http://ostseis.anl.gov, electronic media (on CD-ROM), and paper. Paper and electronic (CD-ROM) copies of the PEIS are available at BLM locations listed in the SUPPLEMENTARY INFORMATION section of this notice.

You may submit comments by any of the following methods:

• Web Site: http://ostseis.anl.gov.

• Mail: BLM Oil Shale and Tar Sands Resources Draft Programmatic EIS Comments, 9700 South Cass Avenue, Argonne, IL 60439.

FOR FURTHER INFORMATION CONTACT: Sherri Thompson, BLM Project Manager, at (303) 239-3758, (sherri_thompson@blm.gov), Bureau of Land Management, 2850 Youngfield Street, Lakewood, Colorado 80215 or Mitchell Leverette, BLM Acting Division Chief, Solid Minerals, at (202) 452-0351, (mitchell_leverette@blm.gov), Bureau of Land Management, 1620 L Street NW., Washington, DC 20036.

SUPPLEMENTARY INFORMATION: This Draft Oil Shale and Tar Sands Resources PEIS is being prepared to meet the requirements established by Congress in Section 369 of the Energy Policy Act of 2005 and to meet the requirements of the National Environmental Policy Act of 1969. It will evaluate the amendment of 12 resource management plans to designate public lands in Colorado, Utah, and Wyoming managed by the U.S. Department of the Interior (DOI), BLM as available for application for commercial leasing for oil shale and tar sands development. The PEIS evaluates the amendment of nine land use plans to designate lands as available for commercial oil shale leasing and amendment of six land use plans to designate lands as available for commercial tar sands leasing. Three of the plans that could be amended contain both oil shale and tar sands resources, so a total of 12 plans will be amended.

The Notice of Intent (NOI) to prepare a Programmatic Environmental Impact Statement (PEIS) and Plan Amendments for Oil Shale and Tar Sands Resources Leasing on Lands Administered by the BLM in Colorado, Utah, and Wyoming was published in the Federal Register on December 13, 2005 (70 Fed. Reg. 73791-73792). As originally stated in the NOI, this PEIS is to evaluate the potential impacts associated with commercial leasing of oil shale and tar sands resources that are located on public lands in the three states. The scope of the analysis was to include an assessment of the direct, indirect, and cumulative environmental, cultural, and socio-economic impacts associated with commercial leasing of these resources under a range of alternatives. Since the NOI was published, however, initial environmental analysis and input from cooperating agencies has led BLM to conclude that critical information on which to assess potential impacts, define required mitigation and approve commercial leasing, is not available at this time. Therefore, BLM has limited the purpose and need for the PEIS. The purpose and need for the PEIS now is to:

(1) Identify the most geologically prospective areas where oil shale and tar sands resources are present on public lands and that could be open to application for commercial leasing, exploration, and development; and

(2) Evaluate the environmental effects associated with amendments of 12 land use plans to allow for application for commercial oil shale or tar sands leasing.

In the NOI, the BLM identified planning criteria, initiated the public scoping process, and invited the public to provide comments on the scope and objectives of the PEIS and to identify issues to be addressed in the planning process. During the scoping process, public meetings were held in Salt Lake City, Vernal, and Price, Utah; Rock Springs and Cheyenne, Wyoming; and Rifle and Denver, Colorado. About 5,000 people participated in the scoping process by attending public meetings or submitting comments. The BLM published a scoping report in March 2006, summarizing and categorizing issues, concerns, and comments received. These comments were considered in developing the alternatives in this PEIS.

The study area for the oil shale resources includes the most geologically prospective resources of the Green River Formation located in the Green River, Piceance, Uinta, and Washakie Basins and encompasses approximately 3,540,000 acres. The BLM has identified the most geologically prospective areas for oil shale development on the basis of the grade and thickness of the oil shale deposits. For the purposes of this PEIS, the most geologically prospective oil shale resources in Colorado and Utah are those deposits that yield 25 gallons or more of shale oil per ton of rock (gal/ton) and are 25 feet thick or greater. In Wyoming, where the oil shale resource is not as high quality as in Colorado and Utah, the most geologically prospective oil shale resources are those deposits that yield 15 gallon/ton or more of shale oil and are 15 feet thick or greater.

For the tar sands resources, the study area includes those locations designated as Special Tar Sand Areas (STSAs) by Congress in the Combined Hydrocarbon Leasing Act of 1981 (P.L. 97-78). Eleven STSAs were identified in Utah: Argyle Canyon-Willow Creek (hereafter referred to as Argyle Canyon), Asphalt Ridge-Whiterocks and Vicinity (hereafter referred to as Asphalt Ridge), Circle Cliffs East and West Flanks (hereafter referred to as Circle Cliffs), Hill Creek, Pariette, P.R. Spring, Raven Ridge-Rim Rock and Vicinity (hereafter referred to as Raven Ridge), San Rafael Swell, Sunnyside and Vicinity (hereafter referred to as Sunnyside), Tar Sand Triangle, and White Canyon. The total acreage of the study area is approximately 1,026,000 acres.

The oil shale and tar sands resources within the defined study areas are located within the jurisdiction of 12 separate BLM administrative units. These units include the Glenwood Springs, Grand Junction, and White River Field Offices in Colorado; the Moab, Monticello, Price, Richfield, and Vernal Field Offices and the Grand Staircase-Escalante National Monument in Utah; and the Kemmerer, Rawlins, and Rock Springs Field Offices in Wyoming. With the exception of the Grand Staircase-Escalante National Monument, the final Record of Decision for this PEIS would amend existing land use plans in affected BLM administrative units to designate the lands available for application for commercial leasing, exploration, and development for oil shale and tar sands resources.

Within the above-listed administrative units, and within the defined boundaries of the most geologically prospective resources of the Green River formation and the designated STSAs, public lands managed by the BLM where the Federal Government owns both the surface estate and subsurface mineral rights are included in the scope of the PEIS analysis. Lands where the surface estate is owned by Tribes, States, or private parties but where the federal government owns the subsurface mineral estate (i.e., split estate lands) are also included in the scope of this analysis. Tribal lands on which both the surface estate and subsurface mineral estate are owned by the Tribe are not included in the scope of analysis.

This PEIS examines alternatives for designation of lands as available for application for commercial leasing of oil shale and tar sands resources. For both oil shale and tar sands resources, there are three alternatives: Alternatives A (the no action alternative), B, and C. The alternatives vary in the amount of area available for application for leasing. The BLM has identified Alternative B for oil shale leasing and Alternative B for tar sands leasing as the preferred alternatives in the PEIS.

For oil shale resources, Alternative A, the “no action” alternative, continues existing management. Under this alternative, it is assumed that the six existing oil shale Research, Demonstration, and Development (RD&D) projects will proceed on their current 160-acre lease parcels. Alternative A only includes the RD&D activities at these 160-acre sites; it does not evaluate future commercial leasing at these or any other locations. Each of these six projects has an associated preference right lease area for future potential commercial development. Under Alternative A, the RD&D leases require additional land use planning and site-specific NEPA analysis prior to granting the RD&D lessees use of the preference right lease area for commercial development.

Under Alternative A, current BLM land use plans within the study area would not be amended to allow for application for leasing for commercial development of oil shale. Further, the ROD for the PEIS would not identify the most geologically prospective resources, specific exclusion areas, land available for application for lease, and so forth. For commercial oil shale development to occur in the future, specific land use plans would need to be amended to identify areas available for lease. Such leasing would be subject to additional NEPA analyses and the oil shale regulations to be promulgated by the BLM.

The BLM has developed two programmatic alternatives for identifying lands available for application for commercial leasing and for establishing a commercial oil shale leasing program. Programmatic Alternatives B and C apply different approaches to designating lands available for application for commercial oil shale leasing. Under both programmatic oil shale alternatives, nine land use plans would be amended to:

(1) Identify the most geologically prospective oil shale resources within each field office;

(2) Make certain lands within these most geologically prospective areas available for application to lease;

(3) Identify any technology restrictions;

(4) Stipulate requirements for future NEPA analyses and consultation activities; and

(5) Specify that priority will be given to the use of land exchanges to facilitate commercial oil shale development pursuant to Section 369(n) of the Energy Policy Act of 2005.

Under Alternative B, about 2 million acres would be available for application for lease and under Alternative C, about 830,000 acres would be available for application. Under Alternative C, additional lands would be excluded from the potential area available for leasing. The lands that would be available under Alternative C include some of the lands that are available under Alternative B, but exclude lands that are identified as requiring special management or resource protection in existing land use plans. Site-specific NEPA analyses would be required under both alternatives prior to leasing and approval of plans of operations during the project development phase. These site-specific analyses will identify potential project-specific impacts and define appropriate lease stipulations and required mitigation measures. Included in this PEIS are potentially applicable mitigation measures that would be applied following the site-specific analyses, as appropriate. In addition, conservation measures agreed upon with the U.S. Fish and Wildlife Service (USFWS) and documented in the PEIS would be applicable to all future commercial leases.

For tar sands resources, Alternative A also is the no action alternative. Under this alternative, land use plans would not be amended to allow for leasing for commercial tar sands development, but current plans authorize leasing under the existing Combined Hydrocarbon Leasing (CHL) program. The BLM has assumed no development of tar sands resources on public lands since there has been no tar sands development under the existing CHL in the last 20 years or more. At the time this PEIS was drafted, no commercial tar sands project proposals have been submitted to the BLM on existing CHL leases. On this basis, the BLM has determined that it is unlikely that commercial tar sands development will occur under the CHL program.

The BLM has developed two programmatic alternatives for identifying lands available for application for commercial leasing and for establishing a commercial tar sands leasing program. Programmatic Alternatives B and C consist of different approaches to designating lands available for application for commercial tar sands leasing. Under both alternatives, six land use plans in Utah would be amended to:

(1) Make certain lands within the STSAs available for application to lease;

(2) Stipulate requirements for future NEPA analyses and consultation activities; and

(3) Specify that priority will be given to the use of land exchanges to facilitate commercial tar sands development pursuant to Section 369(n) of the Energy Policy Act of 2005.

Under Alternative B, about 430,000 acres would be available for application for lease and under Alternative C, about 230,000 acres would be available for application. Site-specific NEPA analyses will be required under both alternatives prior to leasing and approval of plans of operations during the project development phase. These site-specific analyses would identify potential project-specific impacts and define appropriate lease stipulations and required mitigation measures. Included in this PEIS are potentially applicable mitigation measures that would be applied following the site-specific analyses, as appropriate. In addition, conservation measures agreed upon with the USFWS and documented in the PEIS would be applicable to all future commercial leases.

The Oil Shale and Tar Sands Resources PEIS is of interest to numerous Federal, Tribal, state, and local governments. The BLM initially invited about 50 agencies to participate in preparation of the PEIS as cooperating agencies. Fourteen agencies expressed an interest, and memorandums of understanding between these agencies and the BLM were executed to set forth the parameters of cooperating agency relationships with these agencies. The following are participating cooperating agencies in the preparation of this PEIS:

• National Park Service

• Bureau of Reclamation

• U.S. Forest Service

• U.S. Fish and Wildlife Service

• State of Colorado, Department of Natural Resources and Department of Public Health and the Environment

• State of Utah

• State of Wyoming

• Garfield County, Colorado

• Mesa County, Colorado

• Rio Blanco County, Colorado

• Duchesne County, Utah

• Uintah County, Utah

• City of Rifle, Colorado

• Town of Rangely, Colorado.

Paper and electronic (CD-ROM) copies of the PEIS are available at the following BLM locations:

• Colorado State Office, 2850 Youngfield Street, Lakewood, CO 80215

• Utah State Office, 440 West 200 South, Suite 500, Salt Lake City, UT 84101

• Wyoming State Office, 5353 Yellowstone, Cheyenne, WY 82009

• Vernal Field Office, 170 South 500 East, Vernal, UT 84078

• Price Field Office, 125 South 600 West, Price, UT 84501

• Richfield Field Office, 150 East 900 North, Richfield, UT 84701

• Monticello Field Office, 435 North Main, P.O. Box 7, Monticello, UT 84535

• White River Field Office, 220 E. Market Street, Meeker, CO 81641

• Glenwood Springs Field Office, 2425 S. Grand Ave., Suite 101, Glenwood Springs, CO 81601

• Grand Junction Field Office, 2815 H Road, Grand Junction, CO 81506

• Kemmerer Field Office, 312 Highway 189 North, Kemmerer, WY 83101

• Rawlins Field Office, at 1300 North Third, PO Box 2407, Rawlins, WY 82301

• Rock Springs Field Office, 280 Highway 191 North, Rock Springs, WY 82901.

Before including your address, phone number, e-mail address, or other personal identifying information, you should be aware that your entire comment—including your personal identifying information—may be made publicly available at any time. While you can ask us in your comment to withhold your personal identifying information from public review, we cannot guarantee that we will be able to do so.

Michael Nedd,
Assistant Director, Minerals, Realty, and Resource Protection.

[FR Doc. E7-24811 Filed 12-20-07; 8:45 am]

BILLING CODE 4210-84-P